DEPARTMENT OF ENERGY

Federal Energy Regulatory Commission

[Docket No. OR05-5-000]

ConocoPhillips Company Complainant v. SFPP, L.P., Respondent; Notice of Complaint

December 30, 2004.

Take notice that on December 29, 2004, pursuant to Rule 206 of the Commission's Rules of Practice and Procedure (18 CFR 385.206) and the Procedural Rules Applicable to Oil Pipeline Proceedings (18 CFR 341.1(a)), ConocoPhillips Company (ConocoPhillips) filed a Complaint in the above-referenced proceeding. ConocoPhillips alleges that SFPP, L.P. (SFPP) has violated and continued to violate the Interstate Commerce Act, 48 U.S.C. app. 1 et seq. by charging unjust and unreasonable rates for all of SFPP's jurisdictional interstate services associated with its East, West, North and Oregon Lines and its charge for drain-dry service at its Watson Station as more fully set forth in the Complaint.

ConocoPhillips requests that the Commission: (1) Examine the rates and charges of SFPP challenged in this complaint; (2) determine that the challenged rates are unjust and unreasonable; (3) establish just, reasonable, and nondiscriminatory rates to replace the challenged rates; (4) order reparations and/or refunds to ConocoPhillips, including interest, for the applicable reparations and/or refund period; (5) award ConocoPhillips reasonable attorneys' fees and costs; and (6) order such other relief as may be appropriate.

ConocoPhillips states that it has served the Complaint on SFPP.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: January 28, 2005.

Magalie R. Salas,
Secretary.

[FR Doc. E5-8 Filed 1-5-05; 8:45 am]

BILLING CODE 6717-01-P